DEPARTMENT OF ENERGY

Federal Energy Regulatory Commission

[Project No. 12783-003]

Inglis Hydropower, LLC; Notice Soliciting Scoping Comments

March 26, 2010.

Take notice that the following hydroelectric application has been filed with the Commission and is available for public inspection.

a. Type of Application: Original Major License.

b. Project No.: P-12783-003.

c. Date filed: July 22, 2009.

d. Applicant: Inglis Hydropower, LLC.

e. Name of Project: Inglis Hydropower Project.

f. Location: The proposed project would be located at the existing Inglis Bypass Channel and Spillway on the Withlacoochee River, west of Lake Rousseau and the existing Inglis Dam, within the town of Inglis, in Levy, Citrus, and Marion counties, Florida. No federal lands would be occupied by the proposed project.

g. Filed Pursuant to: Federal Power Act 16 U.S.C. 791(a)-825(r).

h. Applicant Contacts: Mr. Dean Edwards, P.O. Box 1565, Dover, FL 33527, (813) 659-3014; and Mr. Kevin Edwards, P.O. Box 143, Mayodan, NC 27027, (336) 589-6138.

i. FERC Contact: Jennifer Adams at (202) 502-8087, or jennifer.adams@ferc.gov.

j. Deadline for filing scoping comments: 30 days from the issuance date of this notice, or April 25, 2010.

All documents may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application is not ready for environmental analysis at this time.

l. The proposed 2.0-megawatt project would consist of: (1) A 45-foot-long by 100-foot-wide intake conveying water from the Bypass Channel; (2) a 130-foot-long penstock consisting of two 14-foot by 14-foot reinforced concrete conduits; (3) a 60-foot-long by 80-foot-wide by 30-foot-high concrete powerhouse containing two 0.8 megawatt (MW) and one 0.4 MW vertical shaft turbines; (4) a 100-foot-long concrete discharge channel carrying the water from the powerhouse back into the Bypass Channel below the spillway; (5) a new substation adjacent to the powerhouse; (6) a 120-foot long, 24-kilovolt transmission line connecting the project substation to the local utility; and (7) appurtenant facilities. The Inglis Project would generate approximately 12,300 Megawatt-hours.

m. A copy of the application is available for review at the Commission in the Public Reference Room, or may be viewed on the Commission's website at http://www.ferc.gov using the “eLibrary” link. Enter the docket number, excluding the last three digits in the docket number field, to access the document. For assistance, contact FERC Online Support. A copy is available for inspection and reproduction at the address in item h above.

You may also register online at http://www.ferc.gov/docs-filing/esubscription.asp to be notified via e-mail of new filings and issuances related to this or other pending projects. For assistance, contact FERC Online Support.

n. Scoping Process:

The Commission staff intends to prepare a single Environmental Assessment (EA) for the Inglis Hydropower Project in accordance with the National Environmental Policy Act. The EA will consider both site-specific and cumulative environmental impacts and reasonable alternatives to the proposed action.

Commission staff does not propose to conduct any on-site scoping meetings at this time. Instead, we are soliciting comments, recommendations, and information on the Scoping Document (SD) issued on March 26, 2010.

Copies of the SD outlining the subject areas to be addressed in the EA were distributed to the parties on the Commission's mailing list and the applicant's distribution list. Copies of the SD may be viewed on the Web at http://www.ferc.gov, using the “eLibrary” link. Enter the docket number, excluding the last three digits in the docket number field, to access the document. For assistance, call 1-866-208-3676 or for TTY, (202) 502-8659.

Kimberly D. Bose,
Secretary.

[FR Doc. 2010-7304 Filed 3-31-10; 8:45 am]

BILLING CODE 6717-01-P